NUCLEAR REGULATORY COMMISSION

10 CFR Part 72

[NRC-2022-0188]

RIN 3150-AK89

List of Approved Spent Fuel Storage Casks: Holtec International HI-STORM 100 Cask System, Certificate of Compliance No. 1014, Renewed Amendment No. 17

AGENCY: Nuclear Regulatory Commission.

ACTION: Direct final rule; confirmation of effective date.

SUMMARY: The U.S. Nuclear Regulatory Commission (NRC) is confirming the effective date of January 16, 2024, for the direct final rule that was published in the Federal Register on October 30, 2023. This direct final rule amended its spent fuel storage regulations by revising the Holtec International HI-STORM 100 Cask System listing within the “List of approved spent fuel storage casks” to include Renewed Amendment No. 17 to Certificate of Compliance No. 1014.

DATES: The effective date of January 16, 2024, for the direct final rule published October 30, 2023 (88 FR 74019), is confirmed.

ADDRESSES: Please refer to Docket ID NRC-2022-0188 when contacting the NRC about the availability of information for this action. You may obtain publicly available information related to this action by any of the following methods:

• Federal Rulemaking Website: Go to https://www.regulations.gov and search for Docket ID NRC-2022-0188. Address questions about NRC dockets to Dawn Forder; telephone: 301-415-3407; email: Dawn.Forder@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The proposed certificate of compliance, the proposed changes to the technical specifications, and the preliminary safety evaluation report are available in ADAMS under Accession No. ML22175A078. The final certificate of compliance, the final technical specifications, and the final safety evaluation report are available in ADAMS under Accession No. ML23328A004.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Kristina Banovac, Office of Nuclear Material Safety and Safeguards, telephone 301-415-7116, email: Kristina.Banovac@nrc.gov; and Irene Wu, Office of Nuclear Material Safety and Safeguards, telephone: 301-415-1951, email: Irene.Wu@nrc.gov. Both are staff of the U.S. Nuclear Regulatory Commission, Washington, DC 20555-0001.

SUPPLEMENTARY INFORMATION: On October 30, 2023 (88 FR 74019), the NRC published a direct final rule amending its regulations in part 72 of title 10 of the Code of Federal Regulations to include Renewed Amendment No. 17 to Certificate of Compliance No. 1014. Renewed Amendment No. 17 updates the HI-STORM 100 Cask System description in the certificate of compliance to indicate that only the portions of the components that contact the pool water need to be made of stainless steel or aluminum. Minor editorial and formatting changes also were made.

In the direct final rule, the NRC stated that if no significant adverse comments were received, the direct final rule would become effective on January 16, 2024. The NRC did not receive any comments on the direct final rule. Therefore, this direct final rule will become effective as scheduled.

Dated: December 11, 2023.
For the Nuclear Regulatory Commission.
Cindy K. Bladey,
Chief, Regulatory Analysis and Rulemaking Support Branch, Division of Rulemaking, Environmental, and Financial Support, Office of Nuclear Material Safety and Safeguards.

[FR Doc. 2023-27505 Filed 12-13-23; 8:45 am]

BILLING CODE 7590-01-P